DEPARTMENT OF TRANSPORTATION

Federal Aviation Administration

Sixty-First Meeting: RTCA Special Committee 186, Automatic Dependent Surveillance-Broadcast (ADS-B)

AGENCY: Federal Aviation Administration (FAA), U.S. Department of Transportation (DOT).

ACTION: Meeting Notice of RTCA Special Committee 186, Automatic Dependent Surveillance-Broadcast (ADS-B).

SUMMARY: The FAA is issuing this notice to advise the public of the sixty first meeting of the RTCA Special Committee 186, Automatic Dependent Surveillance-Broadcast (ADS-B).

DATES: The meeting will be held July 15-17, 2014 from 9:00 a.m.-1:00 p.m.

ADDRESSES: The meeting will be held at the RTCA Headquarters, 1150 18th Street NW., Suite 910, Washington, DC 20036.

FOR FURTHER INFORMATION CONTACT: The RTCA Secretariat, 1150 18th Street NW., Suite 910, Washington, DC 20036, or by telephone at (202) 330-0662/(202) 833-9339, fax (202) 833-9434, or Web site at http://www.rtca.org.

SUPPLEMENTARY INFORMATION: Pursuant to section 10(a)(2) of the Federal Advisory Committee Act (Pub. L. 92-463, 5 U.S.C., App.), notice is hereby given for a meeting of Special Committee 186. The agenda will include the following:

July 15

• All Day, WG-4/EUROCAE SubGroup 3—Application Technical Requirements, NBAA Room & Colson Board Room.

July 16

• All Day, WG-4/EUROCAE SubGroup 3—Application Technical Requirements, NBAA Room & Colson Board Room.

July 17

• Plenary Session.

July 17

• Chairman's Introductory Remarks.

• Review of Meeting Agenda.

• Review/Approval of the sixtieth Meeting Summary, RTCA Paper No. RTCA Paper No. 089-14/SC186-333.

• FAA Surveillance and Broadcast Services (SBS) Program—Status.

• WG-4—Application Technical Requirements.

○ Flight Deck-based Interval Management (FIM) MOPS Status & Schedule.

○ Cockpit Assisted Pilot Procedures (CAPP).

• Terms of Reference—proposed updates.

• Coordination with SC-214/WG-78 for ADS-B Application Data Link Rqts—Status.

• Date, Place and Time of Next Meeting.

• New Business.

○ Status brief on stand-up of Wake Vortex Tiger Team

• Other Business.

○ Follow-up on ADS-B v2 avionics installation issues

• Review Action Items/Work Programs.

• Adjourn Plenary.

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on June 18, 2014.
Mohannad Dawoud,
Management Analyst, Business Operations Group, NextGen, Management Services, Federal Aviation Administration.

[FR Doc. 2014-14692 Filed 6-23-14; 8:45 am]

BILLING CODE 4910-13-P